DEPARTMENT OF ENERGY

Federal Energy Regulatory Commission

[Docket No. RD09-4-000]

North American Electric Reliability Corporation; Notice of Filing

April 8, 2009.

Take notice that on October 24, 2008, pursuant to Section 215(d)(1) of the Federal Power Act and Part 39.5 of the Federal Energy Regulatory Commission's Regulations, The North American Electric Reliability Corporation (NERC) filed a petition seeking approval for interpretations of requirements in two of its Commission-approved NERC Reliability Standards, TPL-002-0 System Performance Following Loss of a Single Bulk Electric System Element (Category B), Requirements R1.2.3 and R1.2.12 and TPL-003-0—System Performance Following Loss of a Two or More Bulk Electric System Elements (Category C), Requirements R1.3.2 and R1.3.12.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on May 8, 2009.

Kimberly D. Bose,
Secretary.

[FR Doc. E9-8561 Filed 4-14-09; 8:45 am]

BILLING CODE 6717-01-P